GENERAL SERVICES ADMINISTRATION

[Notice-OMA-2014-01; Docket No. 2014-0002; Sequence 8]

Joint Working Group on Improving Cybersecurity and Resilience Through Acquisition

AGENCY: Office of Mission Assurance, U.S. General Services Administration (GSA).

ACTION: Notice with a Request for Comments.

SUMMARY: On February 12, 2013, the President issued an Executive Order for Improving Critical Infrastructure Cybersecurity (Executive Order 13636). In accordance with Section 8(e) of Executive Order 13636, the General Services Administration (GSA) and the Department of Defense (DOD) submitted recommendations on the feasibility, security benefits, and relative merits of incorporating security standards into acquisition planning and contract administration and addressing what steps can be taken to harmonize, and make consistent, existing procurement requirements related to cybersecurity. On January 23, 2014, the GSA and DOD posted the Final Report of the Joint Working Group on Improving Cybersecurity and Resilience through Acquisition on the DOD and GSA Web sites. The report makes six (6) recommendations to improve cybersecurity and resilience in Federal acquisitions. This Request for Comments is being published to obtain stakeholder input on how to implement the report's recommendations.

DATES: Effective date: Submit comments on or before April 28, 2014.

ADDRESSES: Submit comments in response to Notice-OMA-2014-01 by any of the following methods:

• Regulations.gov: http://www.regulations.gov.

Submit comments via the Federal eRulemaking portal by searching for “Notice-OMA-2014-01”. Select the link “Submit a Comment” that corresponds with “Notice-OMA-2014-01”. Follow the instructions on the screen. Please include your name, company name (if any), and “Notice-OMA-2014-01” on your attached document.

• Mail: General Services Administration, Regulatory Secretariat Division (MVCB), ATTN: Ms. Flowers, 1800 F Street NW., 2nd Floor, Washington, DC 20405.

Instructions: Please submit comments only and cite “Notice-OMA-2014-01”, in all correspondence related to this case. All comments received will be posted without change to http://www.regulations.gov, including any personal and/or business confidential information provided.

FOR FURTHER INFORMATION CONTACT: Mr. Emile Monette, U.S. General Services Administration, at emile.monette@gsa.gov or 703-615-1734.

SUPPLEMENTARY INFORMATION:

A. Background

The Final Report of the Joint Working Group on Improving Cybersecurity and Resilience through Acquisition makes six (6) recommendations to improve cybersecurity and resilience in Federal acquisitions. Public input received during the drafting of the report was highly valuable to the Joint Working Group, and the input received significantly shaped the final recommendations. Similarly, public input is critically important during implementation of the recommendations. Therefore, in order to obtain broad stakeholder involvement, the GSA and DOD are publishing this Request for Comments seeking information that can be used in implementing the recommendations.

The agencies are seeking comment on a draft implementation plan and associated questions, which can be accessed at http://www.gsa.gov/portal/content/176547.

Dated: March 6, 2014.
Robert Carter,
Acting Associate Administrator, Office of Mission Assurance.

[FR Doc. 2014-05413 Filed 3-11-14; 8:45 am]

BILLING CODE 4702-62-P